DEFENSE NUCLEAR FACILITIES SAFETY BOARD

Sunshine Act Meeting

Pursuant to the provision of the “Government in the Sunshine Act” (5 U.S.C. § 552b), notice is hereby given of the Defense Nuclear Facilities Safety Board's (“Board”) meeting described below.

TIME AND DATE OF MEETING: 9:00 a.m., May 31, 2000.

PLACE: The Defense Nuclear Facilities Safety Board, Public Hearing Room, 625 Indiana Avenue, NW, Suite 352, Washington, DC 20004.

STATUS: Open.

MATTERS TO BE CONSIDERED: The Defense Nuclear Facilities Safety Board will convene the thirteenth quarterly briefing regarding the status of progress of the activities associated with the Department of Energy's Implementation Plan for the Board's Recommendation 95-2, Safety Management. Specific matters will include recent and planned site verification reviews, actions needed to achieve full implementation by September 2000, and progress on developing and refining performance indicators. Presentations on site implementation status will be made by DOE Field Office representatives, and implementation status DOE headquarters offices will be discussed by DOE line managers. DOE will also present the status of implementing Recommendation 98-1, Integrated Safety Management and the Department of Energy (DOE) Facilities.

CONTACT PERSON FOR MORE INFORMATION: Richard A. Azzaro, General Counsel, Defense Nuclear Facilities Safety Board, 625 Indiana Avenue, NW, Suite 700, Washington, DC 20004, (800) 788-4016. This is a toll-free number.

SUPPLEMENTARY INFORMATION: The Defense Nuclear Facilities Safety Board reserves its right to further schedule and otherwise regulate the course of this meeting, to recess, reconvene, postpone or adjourn the meeting, and otherwise exercise its authority under the Atomic Energy Act of 1954, as amended.

Dated: May 11, 2000.
John T. Conway,
Chairman.

[FR Doc. 00-12338 Filed 5-11-00; 5:08 pm]

BILLING CODE 3670-01-P